DEPARTMENT OF THE INTERIOR

Bureau of Land Management

[14XL1109AF; L12200000.PM0000.241E; LLWO250000]

Notice of Use Authorizations; Special Recreation Permits, Other than on Developed Recreation Sites; Adjustment in Fees

AGENCY: Bureau of Land Management, Interior.

ACTION: Notice.

SUMMARY: The Bureau of Land Management (BLM) is adjusting certain special recreation permit fees for various recreation activities on BLM-administered public lands and related waters. The BLM is adjusting the minimum fee for commercial, competitive, and organized group activities or events.

FOR FURTHER INFORMATION CONTACT: David Ballenger, Division of Recreation and Visitor Services, 202-912-7642.

SUPPLEMENTARY INFORMATION: This notice establishes that effective on March 1, 2014, the special recreation permit minimum fee for commercial special recreation permits is $105 per year. The minimum fee for both competitive and organized group activities or events is $5 per person per day, and the minimum fee for an assigned site is $210 per permit. The BLM Director is authorized to periodically adjust fees by the regulations found at 43 CFR 2832.31(b). The previous fee schedule went into effect on March 1, 2011. Commercial and reserved site fees are rounded to the nearest $5. Competitive and group use fees are rounded to the nearest $1. Individual states also have the option of imposing application fees and/or establishing higher minimum fees for special recreation permits.

The next fee adjustment is scheduled for March 1, 2017.

The intended effect of the fee calculation process is to ensure that fees cover administrative costs of permit issuance, provide a fair return to the U.S. Government for use of the public lands, and approach free market value in certain cases. The BLM, in coordination with the U.S. Forest Service, automatically adjusts the minimum commercial, competitive, organized group and activity special recreation permit fees and minimum assigned site fee every 3 years. These fees are calculated and adjusted based on the change in the Implicit Price Deflator-Gross Domestic Product Index (IPD-GDP). The IPD-GDP is also available from the U.S. Department of Commerce, Bureau of Economic Analysis at the following Web site: http://www.bea.gov/iTable/index_nipa.cfm.

Authority: 43 U.S.C. 1740, 16 U.S.C. 6802, and 43 CFR 2932.32

Gregory Shoop,
Acting Assistant Director, Resources and Planning.

[FR Doc. 2014-04573 Filed 2-28-14; 8:45 am]

BILLING CODE 4310-84-P